DEPARTMENT OF COMMERCE

Foreign-Trade Zones Board

[B-71-2015]

Notification of Proposed Production Activity ASA Electronics, LLC Subzone 125D (Motor Vehicle Audio-Visual Products) Elkhart, Indiana

The St. Joseph County Airport Authority, grantee of FTZ 125, submitted a notification of proposed production activity to the FTZ Board on behalf of ASA Electronics, LLC (ASA), operator of Subzone 125D, for ASA's facility located in Elkhart, Indiana. The notification conforming to the requirements of the regulations of the FTZ Board (15 CFR 400.22) was received on October 21, 2015.

ASA already has authority to produce motor vehicle radio/cassette players, radio/compact disc players, compact disc players, speakers, video observation systems, TV/video cassette recorder/digital video disk entertainment systems, and flip down video screens within Subzone 125D. The current request would add new finished products and foreign-status materials and components to the scope of authority. Pursuant to 15 CFR 400.14(b), FTZ activity would be limited to the specific foreign-status components and specific finished products described in the submitted notification (as described below) and subsequently authorized by the FTZ Board.

Production under FTZ procedures could exempt ASA from customs duty payments on the foreign status materials and components used in export production. On its domestic sales, ASA would be able to choose the duty rates during customs entry procedures that apply to: Microphones; audio speakers; amplifiers; digital video disk (DVD) players; observation cameras; radios; liquid crystal display (LCD) monitors; television antennas; radar/navigation antennas; power control systems; camera switchers; public address systems; insulated coaxial cables; and, wire harnesses (duty rate ranges from free to 5.3%) for the foreign-status inputs noted below and in the existing scope of authority. Customs duties also could possibly be deferred or reduced on foreign status production equipment.

The components sourced from abroad include: plastic bags/packaging; foam packaging; plastic radio housings/TV cabinets/speaker grills; rubber gaskets; paper insert packaging/retail box packaging/manuals; steel bolts/screws; zinc camera housings; metal brackets/sleeves; camera receivers-wireless; microphones; audio speakers/amplifiers; subwoofer speakers; speaker grills; DVD players; memory cards-SD; wireless transmitters; observation cameras; radios; rear view mirror monitors; LCD monitors; TV antennas; radar/navigation antennas; printed circuit boards; TV tuners; fuses; power filters; bulkhead coaxial camera connectors; power control systems; camera switchers; diodes and light emitting diodes; public address systems; insulated coaxial cables; and, wire harnesses (duty rate ranges from free to 5.5%).

Public comment is invited from interested parties. Submissions shall be addressed to the FTZ Board's Executive Secretary at the address below. The closing period for their receipt is December 21, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: November 3, 2015.
Elizabeth Whiteman,
Acting Executive Secretary.

[FR Doc. 2015-28669 Filed 11-9-15; 8:45 am]

BILLING CODE 3510-DS-P